NUCLEAR REGULATORY COMMISSION

[NRC-2008-0476; Docket No. 52-008 Early Site Permit No. ESP-003]

In the Matter of Virginia Electric and Power Company, and Old Dominion Electric Cooperative; ESP for North Anna ESP Site; Order Approving Direct Transfer of Early Site Permit and Approving Conforming Amendment

I

Virginia Electric and Power Company, doing business as Dominion Virginia Power (DVP), and Old Dominion Electric Cooperative (ODEC), hold Early Site Permit 003 (ESP-003) for North Anna Site issued on November 27, 2007, pursuant to section 52.24 of Title 10 of the Code of Federal Regulations (10 CFR) “Issuance of Early Site Permit.” The permit expires on November 27, 2027.

II

By application dated March 1, 2012, DVP requested, on its own behalf and behalf of ODEC, pursuant to 10 CFR 50.80, that the U.S. Nuclear Regulatory Commission (NRC) consent to the transfer of ODEC's undivided ownership interest in ESP-003 from ODEC to DVP, with DVP becoming the sole permit holder. As a result of this transfer, DVP will assume all of ODEC's rights and obligations, including all rights and obligations under the ESP.

A notice entitled, Approval of Transfer of Early Site Permit (ESP) and Conforming Amendment, Virginia Electric and Power Company, North Anna ESP Site, was published in the Federal Register on September 10, 2012 (77 FR 55507). No comments or hearing requests were received.

Under 10 CFR 50.80, no ESP, or any right thereunder, shall be transferred, directly or indirectly, through transfer of control of the ESP, unless the Commission shall give its consent in writing. Upon review of the information in the application, and other information before the Commission, the NRC staff has determined that DVP is qualified to hold the ESP-003 to the extent proposed to permit the transfer of ODEC's interest in ESP-003, and that the transfer of the ESP-003 is otherwise consistent with the applicable provisions of law, regulations, and orders issued by the NRC, pursuant thereto. The NRC staff has further found that the application for the proposed conforming amendment to the ESP-003 complies with the standards and requirements of the Atomic Energy Act of 1954, as amended (the Act), and the Commission's rules and regulations set forth in 10 CFR Chapter I; activities at the site will be in conformity with the application, the provisions of the Act and the rules and regulations of the Commission; there is reasonable assurance that the activities authorized by the proposed conforming amendment can be conducted without endangering the health and safety of the public and that such activities will be conducted in compliance with the Commission's regulations; the issuance of the proposed conforming amendment will not be inimical to the common defense and security or to the health and safety of the public; and the issuance of the proposed conforming amendment will be in accordance with 10 CFR Part 51 of the Commission's regulations and all applicable requirements have been satisfied. The findings set forth above are supported by a safety evaluation dated January 30, 2013.

III

Accordingly, pursuant to Sections 161b, 161i, 161o, and 184 of the Atomic Energy Act of 1954, as amended (the Act), 42 U.S.C. 2201(b), 2201(i), 2201(o), and 2234; and 10 CFR 50.80, it is hereby ordered that the application regarding the proposed direct ESP transfer is approved:

It is further ordered that consistent with 10 CFR 2.1315(b), the conforming amendment that makes a change, as indicated in Enclosure 2 to the cover letter forwarding this Order, to reflect the subject direct transfer, is approved. The amendment shall be issued and made effective immediately.

All actions necessary for the proposed direct transfer action have been completed, and this Order is effective upon issuance.

For further details with respect to this Order, see the initial application dated March 1, 2012, (Agencywide Documents Access and Management System (ADAMS) Accession No. ML12072A091), and the Safety Evaluation dated January 30, 2013, which are available for public inspection at the NRC's Public Document Room (PDR), located at One White Flint North, Public File Area, Room O1 F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR reference staff by telephone at 1-800-397-4209, or 301-415-4737, or by email to pdr.resource@nrc.gov.

Dated at Rockville, Maryland this 30th day of January 2013.
For the Nuclear Regulatory Commission.
Glenn M. Tracy,
Director, Office of New Reactors.

[FR Doc. 2013-02471 Filed 2-4-13; 8:45 am]

BILLING CODE 7590-01-P